FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 011830-013.

Agreement Name: Indamex Cross Space Charter, Sailing and Cooperative Working Agreement.

Parties: CMA CGM S.A.; Hapag-Lloyd AG; Ocean Network Express Pte. Ltd.; and Orient Overseas Container Line Limited.

Filing Party: Wayne Rohde; Cozen O'Connor.

Synopsis: The amendment revises Article 5.2(a) to revise the size and maximum number of vessels to be provided and to delete obsolete language.

Proposed Effective Date: 6/1/2020.

Location: https://www2.fmc.gov/FMC.Agreements.Web/Public/AgreementHistory/553.

Agreement No.: 201332-001.

Agreement Name: Maersk/MSC/SML Cooperative Working Agreement.

Parties: Maersk A/S; Mediterranean Shipping Company S.A.; SM Line Corporation.

Filing Party: Wayne Rohde; Cozen O'Connor.

Synopsis: The amendment adds a new Article 12 setting forth a temporary, alternative arrangement between the parties that will apply on an interim basis in light of the suspension of the USWC3 service.

Proposed Effective Date: 6/1/2020.

Location: https://www2.fmc.gov/FMC.Agreements.Web/Public/AgreementHistory/27468.

Agreement No.: 201243-001.

Agreement Name: COSCO SHIPPING/WHL Slot Charter Agreement.

Parties: COSCO SHIPPING Lines Co., Ltd.; Wan Hai Lines (Singapore) Pte. Ltd.; and Wan Hai Lines Ltd.

Filing Party: Eric Jeffrey; Nixon Peabody.

Synopsis: The Amendment expands the geographic scope to include Taiwan and Vietnam, and updates the address of WHL (Singapore).

Proposed Effective Date: 4/20/2020.

Location: https://www2.fmc.gov/FMC.Agreements.Web/Public/AgreementHistory/7135.

Agreement No.: 201340.

Agreement Name: Hyundai Glovis/Kawasaki Kisen Kaisha Ltd. Europe to United States Space Charter Agreement.

Parties: Hyundai Glovis Co., Ltd. and Kawasaki Kisen Kaisha, Ltd.

Filing Party: Wayne Rohde; Cozen O'Connor.

Synopsis: The agreement authorizes Hyundai Glovis to charter space to “K” Line on an ad hoc basis on Hyundai Glovis vessels in the trades between the U.S. East and West Coasts on the one hand and Spain, Italy, France, Belgium, Germany, the United Kingdom, and Sweden on the other hand.

Proposed Effective Date: 4/21/2020.

Location: https://www2.fmc.gov/FMC.Agreements.Web/Public/AgreementHistory/29491.

Agreement No.: 201256-001.

Agreement Name: Maersk/MSC Gulf-ECSA Vessel Sharing Agreement.

Parties: Maersk A/S and Mediterranean Shipping Company S.A.

Filing Party: Wayne Rohde; Cozen O'Connor.

Synopsis: The amendment deletes the expiration date of the Agreement and changes the name of the Maersk entity that is party to the Agreement.

Proposed Effective Date: 6/5/2020.

Location: https://www2.fmc.gov/FMC.Agreements.Web/Public/AgreementHistory/12179.

Agreement No.: 201271-001.

Agreement Name: MED/USEC Vessel Sharing Agreement.

Parties: Hapag-Lloyd; Yang Ming Marine Transport Corp. and Yang Ming (UK) Ltd. (acting as a single party); Ocean Network Express Pte. Ltd.; COSCO SHIPPING Lines Co., Ltd.; CMA CGM S.A. and APL Co. Pte. Ltd. and American President Lines, Ltd. (acting as a single party); and Orient Overseas Container Line Limited and OOCL (Europe) Limited (acting as a single party).

Filing Party: Robert Magovern; Cozen O'Connor.

Synopsis: The amendment deletes COSCO SHIPPING Lines (Europe) GmbH as a party to the Agreement and corrects the address for COSCO SHIPPING Lines Co., Ltd.

Proposed Effective Date: 4/23/2020.

Location: https://www2.fmc.gov/FMC.Agreements.Web/Public/AgreementHistory/16275.

Dated: April 24, 2020.
Rachel E. Dickon,
Secretary.

[FR Doc. 2020-09079 Filed 4-28-20; 8:45 am]

BILLING CODE P